DEPARTMENT OF TREASURY

Customs Service

[T.D. 00-48]

Bonds; Approval to Use Authorized Facsimile Signatures and Seals

Editorial Note: Notice document FR-Document 00-17808 was originally scheduled to publish on Friday, July 14, 2000. It was inadvertently omitted from the issue. It is being printed in today's issue in its entirely.

The use of facsimile signatures and seals on Customs bonds by the following corporate surety has been approved effective this date:

Lincoln General Insurance Company

Authorized facsimile signatures on file for:

Gary C. Bhojwani, Attorney-in-fact

Michael S. Brown, Attorney-in-fact

The corporate surety has provided the Customs Service with copies of the signatures to be used, a copy of the corporate seal, and a certified copy of the corporate resolution agreeing to be bound by the facsimile signatures and seals. This approval is without prejudice to the surety's right to affix signatures and seals manually.

Dated: July 10, 2000.
Larry L. Burton,
Acting Chief, Entry Procedures and Carriers Branch.

[FR Doc. 00-17808 Filed 7-13-00; 8:45 am]

Editorial Note: Notice document FR-Document 00-17808 was originally scheduled to publish on Friday, July 14, 2000. It was inadvertently omitted from the issue. It is being printed in today's issue in its entirely.

[FR Doc. 00-17808 Filed 7-19-00; 8:45 am]

BILLING CODE 1505-01-D